DEPARTMENT OF DEFENSE

Office of the Secretary

[Docket ID: DoD-2014-OS-0043]

Privacy Act of 1974; System of Records

AGENCY: Office of the Secretary of Defense, DoD.

ACTION: Notice to alter a System of Records.

SUMMARY: The Office of the Secretary of Defense proposes to alter a system of records, DHRA 09, entitled “National Security Education Program Records”, in its inventory of record systems subject to the Privacy Act of 1974, as amended. This system will provide U.S. citizens with the resources and encouragement needed to acquire skills and experiences in areas of the world critical to the future security of nations in exchange for a commitment to seek work in the Federal Government. This will enable the National Security Education Program (NSEP) to select qualified applicants to be awarded Boren Scholarships, Boren Fellowships, and English for Heritage Language Speakers program Scholarships.

DATES: Comments will be accepted on or before May 9, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site http://dpclo.defense.gov/. http://dpclo.defense.gov/privacy/SORNs/component/osd/index.html.

The proposed system report, as required by U.S.C. 552a(r) of the Privacy Act of 1974, as amended, was submitted on February 20, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 3, 2014.
Aaron Siegel,
Alternate OSD Federal Register Liaison Officer, Department of Defense.

DHRA 09

System name:

National Security Education Program Records (June 17, 2011, 76 FR 35421).

Changes:

* * * * *

System location:

Delete entry and replace with “Defense Language and National Security Education Office, National Security Education Program, 1101 Wilson Blvd., Suite 1210, Arlington, VA 22209-2248.

Institute of International Education, 1400 K Street NW., Suite 650 Washington, DC 20005-2403.

Carpathia Hosting, Inc., 21000 Atlantic Boulevard, Suite 500, Sterling, Virginia 20166-2499.

Advanced Software Systems, Inc., 22866 Shaw Rd., Sterling, VA 20166-9400.”

* * * * *

Categories of records in the system:

Delete entry and replace with “Title; full name; other names used; current address, city, state, and zip code; permanent address, city, state and zip code; Social Security Number (SSN); current telephone number and permanent telephone number; email address; congressional voting district; date of birth; country or state of birth; naturalization information; educational information; military records; region, country, and language to be studied under award; other languages spoken; proficiency in language studied at time of award; overseas experience; relevant activities; honors and awards; government agencies of interest; proposed study abroad program information and budget; other scholarship funding information; gender; ethnicity. Service obligation information includes truncated SSN, employer name and employer address; supervisor name, title, and telephone number; position title; employment dates and hours; language used in position; security clearance held for position. Curriculum vitae information includes award type; date of award completion; graduation date; length of service requirement; date of availability for work; information on veterans preference, federal employment history, and preferences with regard to being contacted by intelligence agencies; degree information; foreign language information; job history; overseas experience; other information e.g., special recognitions or memberships; special skills and qualifications; fieldwork or volunteer experience; description of job duties.”

Authority for maintenance of the system:

Delete entry and replace with “50 U.S.C., Chapter 37, the David L. Boren National Security Education Act of 1991; DoD Instruction (DoDI) 1025.02, National Security Education Program; DoDI 1025. 6, National Security Education Program (NSEP) Service Agreement; and E.O. 9397 (SSN), as amended.”

Purpose(s):

Delete entry and replace with “To provide U.S. citizens with the resources and encouragement needed to acquire skills and experiences in areas of the world critical to the future security of nations in exchange for a commitment to seek work in the Federal Government. This will enable the National Security Education Program (NSEP) to select qualified applicants to be awarded Boren Scholarships, Boren Fellowships, and English for Heritage Language Speakers program Scholarships.

A record is maintained in the system, NSEPnet, for each student who receives an award. The progress that each student makes toward fulfilling their federal service obligation is tracked within this system.”

Routine uses of records maintained in the system, including categories of users and the purposes of such uses:

Delete entry and replace with “In addition to those disclosures generally permitted under 5 U.S.C. 552a(b) of the Privacy Act of 1974, as amended, the records herein may specifically be disclosed outside the DoD as a routine use pursuant to 5 U.S.C. 552a(b)(3) as follows:

To authorized federal hiring officials for the purpose of recruiting of NSEP award recipients into federal service, and assisting NSEP award recipients in fulfilling their Congressionally-mandated service requirement.

To the Boren Forum, an independent 501(c)3 NSEP alumni organization to confirm the name, award year, and type of award of NSEP award recipients.

Disclosure to consumer reporting agencies:

Disclosures pursuant to 5 U.S.C. 552a(b)(12) may be made from this system to consumer reporting agencies as defined in the Fair Credit Reporting Act (14 U.S.C. 1681a(f)) or the Federal Claims Collection Act of 1966 (31 U.S.C. 3701(a)(3)). The purpose of this disclosure is to aid in the collection of outstanding debts owed to the Federal Government, typically to provide an incentive for debtors to repay delinquent Federal Government debts by making these debts part of their credit records.

The disclosure is limited to information necessary to establish the identity of the individual, including name, address, and taxpayer identification number (SSN); the amount, status, and history of the claim; and the agency or program under which the claim arose for the sole purpose of allowing the consumer reporting agency to prepare a commercial credit report.

The DoD Blanket Routine Uses published at the beginning of the Office of the Secretary of Defense compilation of systems of records notices may apply to this system.”

* * * * *

Safeguards:

Delete entry and replace with “Physical access to records is restricted to those who require the data in the performance of their official duties. Physical entry is restricted by the use of locks, guards, and administrative procedures. Currently the system servers are held in a separate locked facility. Once the system is redesigned the server will be stored off site in a facility with security guards and requires identification badges to access the system. The government office has a key card entry.

Access to information is further restricted by using Common Access Card (CAC) and PIN to access the computer system and program passwords that are changed every 180 days to access system and online databases. The following technical controls are also applied to restrict access to those who require the data in the performance of their official duties: intrusion detection system; encryption; external Certificate Authority (CA) certificate; firewall; and, DoD Public Key Infrastructure (PKI) certificates. PII is encrypted when transmitted electronically.

The following administrative controls are also applied to restrict access to those who require the data in the performance of their official duties: periodic security audits; regular monitoring of users' security practices; methods to ensure only authorized personnel have access to Personally Identifiable Information (PII); encryption of backups containing sensitive data; and, backups secured off-site. Additionally, contract officers are required to incorporate all appropriate Privacy Act clauses and contractor personnel are required to sign non-disclosure documents holding them to all provisions of the Privacy Act.”

* * * * *

System manager(s) and address:

Delete entry and replace with “Deputy of Operations, Defense Language and National Security Education Office, National Security Education Program, 1101 Wilson Boulevard, Suite 1210, Arlington, VA 22209-2248.”

Notification procedure:

Delete entry and replace with “Individuals seeking to determine whether information about themselves is contained in this system of records should address written inquiries to the Director of Operations Defense Language and National Security Education Office, National Security Education Program, 1101 Wilson Boulevard, Suite 1210, Arlington, VA 22209-2248.

Signed, written requests should include individuals full name, address, award year and type and SSN.”

Record access procedures:

Delete entry and replace with “Individuals seeking access to information about themselves contained in this system should address written inquiries to the Office of the Secretary of Defense/Joint Staff Freedom of Information Requester Service Center, 1155 Defense Pentagon, Washington, DC 20301-1155.

Signed, written requests should contain the name and number of this system of records notice along with individual's full name, address, award year and type and SSN.”

* * * * *

Record source categories:

Delete entry and replace with “Individual.”

* * * * *

[FR Doc. 2014-07845 Filed 4-8-14; 8:45 am]

BILLING CODE 5001-06-P